DEPARTMENT OF TRANSPORTATION

Federal Aviation Administration

14 CFR Part 25

[Docket No. FAA-2006-26722; Amendment Nos. 25-127]

RIN 2120-AI66

Security Related Considerations in the Design and Operation of Transport Category Airplanes

AGENCY: Federal Aviation Administration (FAA), DOT.

ACTION: Final rule, correction.

SUMMARY: The Federal Aviation Administration (FAA) is amending an error in its security related regulations affecting the design and operation of transport category airplanes. The paragraph that describes the incorporation by reference of a document containing ballistic resistance requirements contains an erroneous cross reference which was included in both the final rule and the notice of proposed rulemaking. This document corrects that error so that the reader is able to locate the correct information.

DATES: Effective Date: May 15, 2009.

FOR FURTHER INFORMATION CONTACT: For technical questions concerning this final rule, contact: Jeff Gardlin, FAA Airframe and Cabin Safety Branch, ANM-115, Transport Airplane Directorate, Aircraft Certification Service, 1601 Lind Avenue, SW., Renton, Washington 98057-3356; telephone (425) 227-2136; facsimile (425) 227-1149; e-mail: jeff.gardlin@faa.gov. For legal questions concerning this final rule contact: Gary Michel, Regulations Division, AGC-200, FAA Office of the Chief Counsel, 800 Independence Avenue, SW., Washington DC, 20591; telephone (202) 267-3148; e-mail: gary.michel@faa.gov.

SUPPLEMENTARY INFORMATION:

Background

The FAA published a final rule entitled “Security Related Considerations in the Design and Operation of Transport Category Airplanes” in the Federal Register on October 28, 2008 (73 FR 63867). The final rule amended security related regulations affecting the design and operation of transport category airplanes. The final rule, as published, contained an erroneous cross reference in § 25.795 that was carried over from the notice of proposed rulemaking (Notice No. 06-19, published in the Federal Register on January 5, 2007, 72 FR 630), which was also in error. The cross reference related to the incorporation by reference of National Institute of Justice (NIJ) Standard 0101.04, Ballistic Resistance of Personal Body Armor, June 2001, Revision A, to establish ballistic resistance as required by paragraph (b)(3) of 14 CFR 25.795. The correct reference is paragraph (a)(3).

List of Subjects in 14 CFR Part 25

Aircraft, Aviation safety, Reporting and recordkeeping requirements.

Correction

In consideration of the foregoing, the Federal Aviation Administration amends part 25 of Title 14, Code of Federal Regulations, as follows:

PART 25—AIRWORTHINESS STANDARDS: TRANSPORT CATEGORY AIPRLANES

1. The authority citation for part 25 continues to read as follows:

Authority: 49 U.S.C. 106(g), 40113, 44701, 44702, and 44704.

§ 25.795 [Amended]

2. Amend § 25.795(e), introductory text, by removing the phrase “paragraph (b)(3)” and adding the phrase “paragraph (a)(3)” in its place.

Issued in Washington, DC, on May 8, 2009.
Pamela Hamilton-Powell,
Director, Office of Rulemaking.

[FR Doc. E9-11235 Filed 5-14-09; 8:45 am]

BILLING CODE 4910-13-P